DEPARTMENT OF ENERGY

Federal Energy Regulatory Commission

[Docket No. AD25-8-000]

Reliability Technical Conference; Notice Inviting Post-Technical Conference Comments

On Tuesday, October 21, 2025, the Federal Energy Regulatory Commission (Commission) convened its annual Commissioner-led Reliability Technical Conference to discuss policy issues related to the reliability and security of the Bulk-Power System.

All interested persons are invited to file post-technical conference comments to address issues raised during the technical conference or identified in the Third Supplemental Notice for this Technical Conference issued on October 15, 2025. Commenters are invited to reference material previously filed in this docket but are encouraged to avoid repetition or replication of their previous comments. Comments must be submitted on or before November 24, 2025.

Comments may be filed electronically via the internet. Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

For more information about this Notice, please contact: Lodie White, Office of Electric Reliability, (202) 502-8453, Lodie.White@ferc.gov.

Dated: October 23, 2025.
Debbie-Anne A. Reese,
Secretary.

[FR Doc. 2025-20716 Filed 11-21-25; 8:45 am]

BILLING CODE 6717-01-P